INTERNATIONAL TRADE COMMISSION

[Investigation No. 731-TA-923 (Preliminary)]

Oleoresin Paprika From India

Determination

On the basis of the record ¹ developed in the subject investigation, the United States International Trade Commission determines, pursuant to section 733(a) of the Tariff Act of 1930 (19 U.S.C. 1673b(a)), that there is no reasonable indication that an industry in the United States is materially injured or threatened with material injury, or that the establishment of an industry in the United States is materially retarded, by reason of imports from India of oleoresin paprika, provided for in subheading 3301.90.10 ² of the Harmonized Tariff Schedule of the United States, that are alleged to be sold in the United States at less than fair value (LTFV).

¹ The record is defined in sec. 207.2(f) of the Commission's Rules of Practice and Procedure (19 CFR 207.2(f)).

² Other applicable subheadings identified in Commerce's scope include 1301.90.90, 1302.19.90, 3203.00.80, 3205.00.05, and 3301.90.50.

Background

On March 6, 2001, a petition was filed with the Commission and the Department of Commerce by Rezolex, Ltd. Co., Las Cruces, NM, alleging that an industry in the United States is materially injured and threatened with material injury by reason of LTFV imports of oleoresin paprika from India. Accordingly, effective March 6, 2001, the Commission instituted antidumping duty investigation No. 731-TA-923 (Preliminary).

Notice of the institution of the Commission's investigation and of a public conference to be held in connection therewith was given by posting copies of the notice in the Office of the Secretary, U.S. International Trade Commission, Washington, DC, and by publishing the notice in the Federal Register of March 14, 2001 (66 FR 14934). The conference was held in Washington, DC, on March 26, 2001, and all persons who requested the opportunity were permitted to appear in person or by counsel.

The Commission transmitted its determination in this investigation to the Secretary of Commerce on April 20, 2001. The views of the Commission are contained in USITC Publication 3415 (April 2001), entitled Oleoresin Paprika from India: Investigation No. 731-TA-923 (Preliminary).

Issued: April 20, 2001.
By order of the Commission.
Donna R. Koehnke,
Secretary.

[FR Doc. 01-10299 Filed 4-25-01; 8:45 am]

BILLING CODE 7020-02-P